DEPARTMENT OF VETERANS AFFAIRS

Advisory Committee: VA National Academic Affiliations Council, Notice of Meeting

The Department of Veterans Affairs (VA) gives notice under the Federal Advisory Committee Act that the VA National Academic Affiliations Council (NAAC) will meet via conference call on December 5, 2018, from 1:00 p.m. to 4:00 p.m. EST. The meeting is open to the public.

The purpose of the Council is to advise the Secretary on matters affecting partnerships between VA and its academic affiliates.

On December 5, 2018, the Council will welcome and introduce its seven new members; receive an activities update from its Subcommittee on Diversity and Inclusion; explore the results of the Trainee Satisfaction Survey conducted by the Office of Academic Affiliations; receive a briefing on the alignment of VHA telehealth care delivery with educational accrediting body requirements; and discuss recent stakeholder engagement activities related to implementation of Section 403 of the VA MISSION Act (Pub. L. 115-182). The Council will receive public comments from 2:50 p.m. to 3:00 p.m. EST. Immediately following the public comment session, the Council will receive two annual training briefings from the VA Advisory Committee Management Office and the VA Office of General Counsel.

Interested persons may attend and/or present oral statements to the Council.

The dial in number to attend the conference call is: 1-800-767-1750. At the prompt, enter access code 59021 then press #. Individuals seeking to present oral statements are invited to submit a 1-2 page summary of their comments at the time of the meeting for inclusion in the official meeting record. Oral presentations will be limited to five minutes or less, depending on the number of participants. Interested parties may also provide written comments for review by the Council prior to the meeting or at any time, by email to Larissa.Emory@va.gov, or by mail to Larissa A. Emory PMP, CBP, MS, Designated Federal Officer, Office of Academic Affiliations (10A2D), 810 Vermont Avenue NW, Washington, DC 20420. Any member of the public wishing to participate or seeking additional information should contact Ms. Emory via email or by phone at (915) 269-0465.

Dated: November 20, 2018.
Jelessa M. Burney,
Federal Advisory Committee Management Officer.

[FR Doc. 2018-25694 Filed 11-23-18; 8:45 am]

BILLING CODE P